DEPARTMENT OF HEALTH AND HUMAN SERVICES

Office of the Secretary

Establishment of the National Biodefense Science Board

AGENCY: Office of the Assistant Secretary for Preparedness and Response.

ACTION: Notice.

SUMMARY: The Office of the Secretary announces establishment of the National Biodefense Science Board. The Board will provide expert advice and guidance to the Secretary on scientific, technical and other matters of special interest to the Department of Health and Human Services regarding activities to prevent, prepare for and respond to adverse health effects of public health emergencies resulting from current and future chemical, biological, nuclear, and radiological agents, whether naturally occurring, accidental, or deliberate. Resumes or curricula vitae from qualified individuals who wish to be considered for membership on the Board are currently being accepted.

To Submit a resume or curriculum vitae, send e-mail to nbsbnominations@hhs.gov.

FOR FURTHER INFORMATION CONTACT: Dr. Susan Cibulsky at 202-260-7000 or nbsbquestions@hhs.gov. The Board's charter and additional information may be accessed online at http://www.hhs.gov/aspr/omsph/nbsb.

SUPPLEMENTARY INFORMATION:

Authority

Section 402 of the Pandemic and All-Hazards Preparedness Act (Pub. L. 109-417) (codified at Section 319M of Title III of the Public Health Service Act (42 U.S.C. 247d-7f), as amended) directs the Secretary to establish the National Biodefense Science Board.

Function

The Board shall provide expert advice and guidance to the Secretary on scientific, technical, and other matters of special interest to the Department of Health and Human Services regarding current and future chemical, biological, nuclear, and radiological agents, whether naturally occurring, accidental, or deliberate. Duties include, but are not limited to, (1) advising the Secretary on current and future trends, challenges, and opportunities presented by advances in biological and life sciences, biotechnology, and genetic engineering with respect to threats posed by naturally occurring infectious diseases and chemical, biological, radiological, and nuclear agents; (2) at the request of the Secretary, reviewing and considering any information and findings received from the working groups established under the authority of the Board; and (3) at the request of the Secretary, providing recommendations and findings for expanded, intensified, and coordinated biodefense research and development activities.

Structure

The Board shall consist of 13 voting members, including the Chairperson; additionally, there may be non-voting ex officio members. Members and the Chairperson shall be appointed by the Secretary from the among the Nation's preeminent scientific, public health and medical experts, as follows: (a) Such Federal officials as the Secretary determines are necessary to support the functions of the Board; (b) four individuals from the pharmaceutical, biotechnology and device industries, (c) four academicians; (d) five other members as determined appropriate by the Secretary, one of whom must be a practicing health care professional and one of whom must be from an organization representing health care consumers. Additional members will be selected from among state and local governments, emergency medical responders, other components of the public health community, and organizations representing other appropriate stakeholders. Members shall be invited to serve overlapping three-year terms. Unless renewed by appropriate action, the Board shall terminate five years after the date on which it was established.

Dated: May 31, 2007.
William C. Vanderwagon,
Assistant Secretary for Preparedness and Response.

[FR Doc. 07-3032 Filed 6-19-07; 8:45 am]

BILLING CODE 4150-37-M